ENVIRONMENTAL PROTECTION AGENCY

[EPA-HQ-OW-2006-0408; FRL-9103-8]

Agency Information Collection Activities; Submission to OMB for Review and Approval; Comment Request; EPA's WaterSense Program (Renewal); EPA ICR No. 2233.04, OMB Control No. 2040-0272

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before February 16, 2010.

ADDRESSES: Submit your comments, referencing Docket ID No. EPA-HQ-OW-2006-0408 to (1) EPA online using http://www.regulations.gov (our preferred method), OW-Docket@epa.gov, or by mail to: EPA Docket Center, Water Docket, Environmental Protection Agency, Mailcode: 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Tara O'Hare, OW, WaterSense Program (MC 4204M), Environmental Protection Agency, 1200 Pennsylvania Ave., NW., Washington, DC 20460; telephone number: 202-564-8836; fax number: 202-501-2396; e-mail address: ohare.tara@epa.gov.

SUPPLEMENTARY INFORMATION: EPA has submitted the following ICR to OMB for review and approval according to the procedures prescribed in 5 CFR 1320.12. On July 28, 2009 (74 FR 37212), EPA sought comments on this ICR pursuant to 5 CFR 1320.8(d). EPA received no comments. Any additional comments on this ICR should be submitted to EPA and OMB within 30 days of this notice.

EPA has established a public docket for this ICR under Docket ID No. EPA-HQ-OW-2006-0408, which is available for online viewing at http://www.regulations.gov, or in person viewing at the Water Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Water Docket is 202-566-2426.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: EPA's WaterSense Program (Renewal)

ICR numbers: EPA ICR No. 2233.04, OMB Control No. 2040-0272.

ICR Status: This ICR is scheduled to expire on January 31, 2010. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: WaterSense is a voluntary program designed to create self-sustaining markets for water-efficient products and services via a common label. The program provides incentives for manufacturers to design, produce, and market water-efficient products. In addition, the program provides incentives for certified professionals (e.g. certified irrigation auditors, designers, or installation and maintenance professionals) to deliver water-efficient services. The program also encourages consumers and commercial and institutional purchasers of water-using products and systems to choose water-efficient products and engage in water-efficient practices.

As part of strategic planning efforts, EPA encourages programs to develop meaningful performance measures, set ambitious targets, and link budget expenditures to results. Data collected under this ICR will assist the WaterSense program in demonstrating results and evaluating program effectiveness to ensure continual program improvement. In addition, data will help EPA monitor market penetration and inform future product categories and specifications.

Burden Statement: The annual public reporting and recordkeeping burden for this collection of information is estimated to average 19 hours per response for organizational partners, who are not manufacturers and who are not applying for an award. The average burden is 35 hours for manufacturing partners who must also complete New Certified Product Notification Forms. Award applicants are estimated to spend an additional 20 hours on average to complete the awards application. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Estimated Number of Respondents: 357 state and local government; 1,319 private sector organizations, and 668 individuals per year.

Frequency of Response: Varies.

Estimated Total Annual Hour Burden: 21,250 hours.

Estimated Total Annual Cost: $3,369,814, this includes $1,793,181 in operation & maintenance costs.

Changes in the Estimates: The WaterSense program has been modified and expanded since the original ICR was approved. The program is expanding in the number of products certified, new partners joining and reporting, and the addition of the New Homes portion of the program. Despite this expansion, the overall burden estimate for this collection is 28,830 hours lower than the current ICR because EPA also has a better understanding of how long it actually takes partners to complete program forms now that the program is underway. Operation and maintenance cost estimates have risen substantially however, since product testing by certifying bodies was found to be more expensive than previously estimated and many more products are expected to undergo this testing in the next three years.

Dated: January 4, 2010.
John Moses,
Director, Collection Strategies Division.

[FR Doc. 2010-748 Filed 1-14-10; 8:45 am]

BILLING CODE 6560-50-P